DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 U.S.C. 1531 et seq.). The U.S. Fish and Wildlife Service solicits review and comment from local, State, and Federal agencies, and the public on the following permit requests.

Permit No. TE-050450

Applicant: Lisa D. Allen, Irvin, California.

The applicant requests a permit to take (survey by pursuit) the Quino checkerspot butterfly (Euphydryas editha quino) in conjunction with demographic studies throughout the range of the species for the purpose of enhancing its survival.

Permit No. TE-840619

Applicant: Jeff Priest, San Diego, California.

The permittee requests a permit amendment to take (harass by survey) the southwestern willow flycatcher (Empidonax trailii extimus) in conjunction with surveys in Riverside, San Diego, San Bernardino, and Orange Counties, California for the purpose of enhancing its survival.

Permit No. TE-051529

Applicant: Brenda L. McMillan, La Mesa, California.

The applicant requests a permit to take (survey by pursuit) the Quino checkerspot butterfly (Euphydryas editha quino) and take (harass by survey, collect, and sacrifice) the San Diego fairy shrimp (Branchinecta sandiegonensis) and Riverside fairy shrimp (Streptocephalus wootoni) in conjunction with surveys in San Diego, Orange, Riverside, and Los Angeles Counties, California for the purpose of enhancing their survival.

Permit No. TE-796271

Applicant: Shana Dodd, San Diego, California.

The permittee requests a permit amendment to take (capture) the San Bernardino kangaroo rat (Dipodomys merriami parvus) in conjunction with surveys throughout the range of the species for the purpose of enhancing its survival.

Permit No. TE-052073

Applicant: Don Houston, Encinitas, California.

The applicant requests a permit to take (survey by pursuit) the Quino checkerspot butterfly (Euphydryas editha quino) in conjunction with surveys in San Diego, Orange, Riverside, and Imperial Counties, California for the purpose of enhancing its survival.

Permit No. TE-051526

Applicant: Technology Associates International Corporation, San Diego, California.

The applicant requests a permit to take (survey by pursuit) the Quino checkerspot butterfly (Euphydryas editha quino), to take (harass by survey and locate and monitor nests) the southwestern willow flycatcher (Empidonax trailii extimus), and to take (locate and monitor nests) least Bell's vireo (Vireo bellii pusillus) in conjunction with demographic studies in Riverside, San Diego, Imperial, San Bernardino, Orange, Los Angeles, Santa Barbara, and Ventura Counties, California for the purpose of enhancing their survival.

Permit No. TE-050241

Applicant: Carothers Environmental, LLC, Sedona, Arizona.

The applicant requests a permit to take (harass by survey) the southwestern willow flycatcher (Empidonax trailii extimus) in conjunction with surveys in Riverside, San Diego, Imperial, San Bernardino, Orange, Los Angeles, and Ventura Counties, California for the purpose of enhancing its survival.

Permit No. TE-836517

Applicant: Chet McGaugh, Riverside, California.

The permittee requests a permit amendment to take (harass by survey) the Yuma Clapper Rail (Rallus longirostris yumanensis) in conjunction with surveys in Riverside, Imperial, and San Bernardino Counties, California and Yuma, La Paz, Mohave Counties, Arizona for the purpose of enhancing its survival.

Permit No. TE-051722

Applicant: C. Barry Knisley, Mechanicsville, Virginia.

The applicant requests a permit to take (harass by survey, collect, and sacrifice) the Ohlone tiger beetle (Cicindela ohlone) in conjunction with surveys in Santa Cruz County, California for the purpose of enhancing its survival.

Permit No. TE-052070

Applicant: Nancy H. Sandburg, Santa Barbara, California.

The applicant requests a permit to take (harass by survey and attach transmitters) the Arroyo toad (Bufo califonicus) in conjunction with surveys in Monterey County, California for the purpose of enhancing its survival.

Permit No. TE-052197

Applicant: Anne Elizabeth Fetscher, Irvin, California.

The applicant requests a permit to take (survey by pursuit) the Quino checkerspot butterfly (Euphydryas editha quino) in conjunction with surveys throughout the range of the species in California for the purpose of enhancing its survival.

Permit No. TE-026092

Applicant: Paul Kephart, Monterey, California.

The applicant requests a permit to take (maintain and collect seed from nursery-grown plants) the Erysimum menziesii (Menzie's wallflower) in conjunction with propagation efforts in Monterey County, California for the purpose of enhancing its survival.

DATES: Written comments on these permit applications must be received within 30 days of the date of publication of this notice.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: January 25, 2002.
David J. Wesley,
Regional Director, Region 1, Portland, Oregon.

[FR Doc. 02-2932 Filed 2-6-02; 8:45 am]

BILLING CODE 4310-55-P